DEPARTMENT OF COMMERCE

International Trade Administration

(A-570-862)

Foundry Coke Products from the People's Republic of China: Continuation of Antidumping Duty Order

AGENCY: Import Administration, International Trade Administration, Department of Commerce.

SUMMARY: As a result of the determinations by the Department of Commerce (“the Department”) and the International Trade Commission (“ITC”) that revocation of the antidumping duty order on Foundry Coke Products from the People's Republic of China (“PRC”) would likely lead to continuation or recurrence of dumping and material injury to an industry in the United States, the Department is publishing this notice of continuation of this antidumping duty (“AD”) order.

EFFECTIVE DATE: January 10, 2007.

FOR FURTHER INFORMATION CONTACT: Irene Gorelik at (202) 482-6905 or Juanita Chen at (202) 482-1904 ; AD/CVD Operations, Import Administration, International Trade Administration, U.S. Department of Commerce, 14th Street and Constitution Avenue, NW, Washington, DC 20230.

SUPPLEMENTARY INFORMATION:

Background

On August 1, 2006, the Department initiated a sunset review of the AD order on Foundry Coke from the PRC pursuant to section 751(c) of the Tariff Act of 1930, as amended (“the Act”). See Initiation of Five-year (“Sunset”) Reviews, 71 FR 43443 (August 1, 2006). The Department received notices of intent to participate from the following domestic parties within the deadline specified in 19 CFR 351.218(d)(1)(i): ABC Coke, Citizens Gas & Coke Utility, Erie Coke, Sloss Industries Corporation, and Tonawanda Coke Corporation (collectively, “Petitioners”). These parties claimed interested party status under section 771(9)(C) of the Act and 19 CFR 351.102(b), as domestic manufacturers and producers of the domestic like product. The Department received a substantive response from Petitioners within the 30-day deadline specified in 19 CFR 351.218(d)(3)(i). The Department did not receive a substantive response from any of the respondent interested parties to these proceedings. As a result, pursuant to section 751(c)(3)(B) of the Act and 19 CFR 351.218(e)(1)(ii)(C)(2), the Department conducted an expedited sunset review of this AD order.¹ On December 20, 2006, the ITC determined, pursuant to section 751(c) of the Act, that revocation of the AD order on foundry coke would likely lead to continuation or recurrence of material injury to an industry in the United States within a reasonably foreseeable time.²

¹ See Foundry Coke Products from the People's Republic of China: Final Results of the Expedited Sunset Review of the Antidumping Duty Order, 71 FR 70956 (December 7, 2006).

² See Foundry Coke from China, 71 FR 78223 (December 28, 2006), and USITC Publication 3897, Investigation No. 731-TA-891 (December 20, 2006) (Review).

Scope Of The Order

The product covered under the antidumping duty order is coke larger than 100 mm (4 inches) in maximum diameter and at least 50 percent of which is retained on a 100-mm (4 inch) sieve, of a kind used in foundries.

The foundry coke products subject to the antidumping duty order were classifiable under subheading 2704.00.00.10 (as of Jan 1, 2000) and are currently classifiable under subheading 2704.00.00.11 (as of July 1, 2000) of the Harmonized Tariff Schedule of the United States (“HTSUS”). Although the HTSUS subheadings are provided for convenience and Customs purposes, our written description of the scope of the order is dispositive.

Determination

As a result of the determinations by the Department and the ITC that revocation of the antidumping duty order would likely lead to continuation or recurrence of dumping and material injury to an industry in the United States, pursuant to section 751(d)(2) of the Act, the Department hereby orders the continuation of the antidumping duty order on foundry coke products from the PRC. U.S. Customs and Border Protection will continue to collect antidumping duty cash deposits at the rates in effect at the time of entry for all imports of subject merchandise. This review covers imports from all manufacturers and exporters of foundry coke from the PRC.

The effective date of continuation of this order will be the date of publication in the Federal Register of this Notice of Continuation. Pursuant to sections 751(c)(2) and 751(c)(6) of the Act, the Department intends to initiate the next five-year review of this order not later than December 2011.

This five-year (“sunset”) review and notice are in accordance with section 751(c) of the Act and published pursuant to section 777(i)(1) of the Act.

Dated: January 4, 2007.
David M. Spooner,
Assistant Secretary for Import Administration.

[FR Doc. E7-198 Filed 1-9-07; 8:45 am]

BILLING CODE 3510-DS-S